FEDERAL ACCOUNTING STANDARDS ADVISORY BOARD

Notice of Issuance of Statement of Federal Financial Accounting Technical Release 17

AGENCY: Federal Accounting Standards Advisory Board.

ACTION: Notice.

FOR FURTHER INFORMATION CONTACT: Ms. Wendy M. Payne, Executive Director, 441 G Street NW., Mailstop 6H19, Washington, DC 20548, or call (202) 512-7350.

SUPPLEMENTARY INFORMATION:

Board Action: Pursuant to 31 U.S.C. 3511(d), the Federal Advisory Committee Act (Pub. L. 92-463), as amended, and the FASAB Rules Of Procedure, as amended in October 2010, notice is hereby given that the Federal Accounting Standards Advisory Board (FASAB) has issued Statement of Federal Financial Accounting Technical Release (TR) 17: Conforming Amendments to Technical Releases for SFFAS 50, Establishing Opening Balances for General Property, Plant, and Equipment.

The Statement is available on the FASAB Web site at http://www.fasab.gov/accounting-standards/. Copies can be obtained by contacting FASAB at (202) 512-7350.

Authority: Federal Advisory Committee Act, Pub. L. 92-463.

Dated: April 10, 2017.
Wendy M. Payne,
Executive Director.

[FR Doc. 2017-07606 Filed 4-13-17; 8:45 am]

BILLING CODE 1610-02-P